FEDERAL MARITIME COMMISSION

Ocean Transportation Intermediary License; Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants:

PVB Shipping USA Inc., 556 Sequoia Trail, Roselle, IL 60172-1046, Biren Biharilal Parekh, President, (Qualifying Individual), Purnima B. Parekh, Secretary.

I.C.S. Customs Service, Inc., 812 Thorndale Avenue, Suite B, Bensenville, IL 60106, Officers: David A. Sharpe, President, (Qualifying Individual), William A. Sharpe, Secretary/Treasurer.

Triple Star International Freight Inc. d/b/a, Tagumpay Cargo 31883 Alvarado Blvd., Union City, CA 94587, Officers: Monina F. Manalo, Operations Manager, (Qualifying Individual), Joseph Y. Figueroa, President.

Hana Worldwide Shipping Co., Inc., 1171 Landmeier Road, Suite 120, Elk Grove Village, IL 60007, Officer: David I. Park, President, (Qualifying Individual).

Meridian Containers (U.S.A.) Ltd., 47 Raritan Avenue, Suite B, Highland Park, NJ 08904, Officers: Paul Wiegers, President, (Qualifying Individual), Sunando Sen, Director.

Mabuhay Cargo Express, Inc., 1949 W. Washington Blvd., Los Angeles, CA 90018, Officer: Erlinda Zafe-Pestano, Owner, (Qualifying Individual).

Nolton Freight Logistics, Inc., 520 Carson Plaza Ct., #212, Carson, CA 90746, Officers: Daniel Lee, Vice President, (Qualifying Individual), Anthony C. W. Chan, President.

Non-Vessel Operating Common Carrier and Ocean Freight Forwarder Transportation Intermediary Applicants:

Ultra Air Cargo Inc., 555 S. Isis Avenue, Inglewood, CA 90301, Officers: Cindy S. Mar, Vice President, (Qualifying Individual), David Hsu, President.

Manila Box Corporation, 860 Campus Drive, Apt. 319, Daly City, CA 94015, Officers: Cecile T. Geronimo, Vice President, (Qualifying Individual), Eugene Antonio, President.

Ocean Freight Forwarder—Ocean Transportation Intermediary Applicant:

American Shipping Auto Export 450 Fernando Court, Glendale, CA 91204, Fernando G. Rodriguez, Sole Proprietor.

SBS Worldwide (Chicago), Inc. d/b/a SBS Worldwide, 611 Eagle Drive, Bensenville, IL 60106, Officers: Dennis J. Potts, Vice President of Operations, (Qualifying Individual), Nick Walker, President.

Danmax International Corporation, 12700 S.W. 112 Street, Miami, FL 33186, Officer: Victor Rickards, President, (Qualifying Individual).

Bryant L. VanBrakle,
Secretary.

[FR Doc. 00-33048 Filed 12-27-00; 8:45 am]

BILLING CODE 6730-01-P